DEPARTMENT OF LABOR

Employment and Training Administration

[TA-W-38,065]

It's Personal, New York, New York; Notice of Termination of Investigation

Pursuant to section 221 of the Trade Act of 1974, an investigation was initiated on September 5, 2000, in response to a petition filed on August 22, 2000 on behalf of workers at It's Personal, New York, New York.

The Department of Labor has been unable to locate principals of the firm or otherwise obtain information to reach a determination on worker eligibility. Consequently, further investigation in this case would serve no purpose, and the investigation has been terminated.

Signed in Washington, DC, this 20th day of November, 2000.
Linda G. Poole,
Certifying Officer, Division of Trade Adjustment Assistance.

[FR Doc. 00-31039 Filed 12-5-00; 8:45 am]

BILLING CODE 4510-30-M